ENVIRONMENTAL PROTECTION AGENCY

[FRL-7219-5]

Agency Information Collection Activities: Submission for OMB Review; Comment Request; Final Authorization for Hazardous Waste Management

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Final Authorization for Hazardous Waste Management, OMB Control No. 2050-0041, expiring May 31, 2002. The ICR describes the nature of the information collection and its expected burden and cost; where appropriate, it includes the actual data collection instrument.

DATES: Comments must be submitted on or before June 28, 2002.

ADDRESSES: Send comments, referencing EPA ICR No. 0969.06 and OMB Control No. 2050-0041, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-Mail at auby.susan@epamail.epa.gov, or download off the Internet at http://www.epa.gov/icr and refer to EPA ICR No. 0969.06. For technical questions about the ICR contact Wayne Roepe by phone at (703) 308-8630, or by e-Mail at roepe.wayne@epa.gov.

SUPPLEMENTARY INFORMATION: Title: Final Authorization for Hazardous Waste Management, OMB Control Number 2050-0041, EPA ICR Number 0969.06, expiration date May 31, 2002. This is a request for extension of a currently approved collection.

Abstract: In order for a State to obtain final authorization for a State hazardous waste program or to revise it's previously authorized program, it must submit an official application to the EPA Regional office for approval. The purpose of the application is to enable EPA to properly determine whether the State's program meets the requirements of section 3006 of RCRA. A State with an approved program may voluntarily transfer program responsibilities back to EPA by notifying EPA of the proposed transfer, as required by 40 CFR 271.23. Either EPA or the approved State may initiate a revision to the authorized program. State program revision may be necessary when the controlling Federal or State statutory or regulatory authority is modified or supplemented. The State shall inform EPA of any proposed modification to it's basic statutory or regulatory authority, it's forms, procedures, or priorities, in accordance with § 271.21. If a State is proposing to transfer all or any part of any program from the approved agency to any other agency, it must notify EPA in accordance with § 271.21 and submit revised organizational charts as required under § 271.6. Further, whenever EPA has reason to believe that circumstances have changed with respect to a State program, EPA may request, and the State will provide, a supplemental Attorney General's statement, program description or other such documents or information ass are necessary. These paperwork requirements are mandatory under section 3006(a). EPA will use the information submitted by the State in order to determine whether the State's program meets statutory and regulatory requirements for authorization.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on put December 28, 2001 (66 FR 67245). One comment was received.

Burden Statement: The annual public reporting and recordkeeping burden for this collection of information is estimated to average 399 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Federal Government; State, Local, or Tribal Government.

Estimated Number of Respondents: 50.

Frequency of Response: Annual.

Estimated Total Annual Hour Burden: 19,968 hours.

Estimated Total Annualized Capital, O&M Cost Burden: $0.

Send comments on the Agency's need for this information, the accuracy of the provided burden estimates, and any suggested methods for minimizing respondent burden, including through the use of automated collection techniques to the address listed above. Please refer to EPA ICR No. 0969.06 and OMB Control No. 2050-0041 in any correspondence.

Dated: May 21, 2002.
Oscar Morales,
Director, Collection Strategies Division.

[FR Doc. 02-13348 Filed 5-28-02; 8:45 am]

BILLING CODE 6560-50-M